DEPARTMENT OF ENERGY

Federal Energy Regulatory Commission

[Project No. 14797-000]

California Department of Water Resources; Notice of Intent To File License Application, Filing of Pre-Application Document, and Approving Use of the Traditional Licensing Process

a. Type of Filing: Notice of Intent To File License Application and Request to Use the Traditional Licensing Process.

b. Project No.: 14797-000.

c. Date Filed: August 1, 2016.

d. Submitted By: California Department of Water Resources.

e. Name of Project: Devil Canyon Project.¹

¹ The proposed Devil Canyon Project is currently licensed as part of the South SWP Project (P-2426).

f. Location: The project is located along the East Branch of the California Aqueduct, in San Bernardino County, California. The project occupies 220.98 acres of United States lands administered by the U.S. Department of Agriculture, Forest Service, as part of the San Bernardino National Forest.

g. Filed Pursuant to: 18 CFR 5.3 of the Commission's regulations.

h. Potential Applicant Contact: Ted Craddock, Chief, Hydropower License Planning and Compliance Office, California Department of Water Resources, P.O. Box 942836, Sacramento, CA 94236-0001; (916) 557-4555; email—Ted.Craddock@water.ca.gov.

i. FERC Contact: John Mudre at (202) 502-8902; or email at john.mudre@ferc.gov.

j. California Department of Water Resources filed its request to use the Traditional Licensing Process on August 1, 2016. California Department of Water Resources provided public notice of its request on July 29 and August 1, 2016. In a letter dated September 30, 2016, the Director of the Division of Hydropower Licensing approved California Department of Water Resources' request to use the Traditional Licensing Process.

k. With this notice, we are initiating informal consultation with the U.S. Fish and Wildlife Service under section 7 of the Endangered Species Act and the joint agency regulations thereunder at 50 CFR, part 402. We are also initiating consultation with the California State Historic Preservation Officer, as required by section 106, National Historic Preservation Act, and the implementing regulations of the Advisory Council on Historic Preservation at 36 CFR 800.2.

l. With this notice, we are designating California Department of Water Resources as the Commission's non-federal representative for carrying out informal consultation pursuant to section 7 of the Endangered Species Act and consultation pursuant to section 106 of the National Historic Preservation Act.

m. California Department of Water Resources filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 14797. Pursuant to 18 CFR 16.8, 16.9, and 16.10 each application for a new license and any competing license applications must be filed with the Commission at least 24 months prior to the expiration of the existing license. All applications for license for this project must be filed by January 31, 2020.

p. Register online at http://www.ferc.gov/docs-filing/esubscription.asp to be notified via email of new filing and issuances related to this or other pending projects. For assistance, contact FERC Online Support.

Dated: September 30, 2016.
Kimberly D. Bose,
Secretary.

[FR Doc. 2016-24272 Filed 10-6-16; 8:45 am]

BILLING CODE 6717-01-P